DEPARTMENT OF THE INTERIOR

National Park Service

[NPS-WASO-NRNHL-0711-7949; 2280-665]

National Register of Historic Places; Notification of Pending Nominations and Related Actions

Nominations for the following properties being considered for listing or related actions in the National Register were received by the National Park Service before July 9, 2011. Pursuant to section 60.13 of 36 CFR part 60, written comments are being accepted concerning the significance of the nominated properties under the National Register criteria for evaluation. Comments may be forwarded by United States Postal Service, to the National Register of Historic Places, National Park Service, 1849 C St. NW., MS 2280, Washington, DC 20240; by all other carriers, National Register of Historic Places, National Park Service,1201 Eye St. NW., 8th floor, Washington DC 20005; or by fax, 202-371-6447. Written or faxed comments should be submitted by August 18, 2011. Before including your address, phone number, e-mail address, or other personal identifying information in your comment, you should be aware that your entire comment—including your personal identifying information—may be made publicly available at any time. While you can ask us in your comment to withhold your personal identifying information from public review, we cannot guarantee that we will be able to do so.

J. Paul Loether,
Chief, National Register of Historic Places/National Historic Landmarks Program.

CALIFORNIA

Placer County

Chapel of the Transfiguration, 855 W. Lake Blvd., Tahoe City, 11000534

KENTUCKY

Fayette County

Mathews, Courtney, House, 547 Breckinridge St., Lexington, 11000535

Graves County

Mayfield Electric and Water Systems, 301 E. Broadway, Mayfield, 11000536

Jefferson County

Conrad-Seaton House and Archeological Site, Address Restricted, Louisville, 11000537

Mason County

Cox Building, The, 2-8 E. 3rd St., Maysville, 11000538

McCracken County

Union Station School, 3138 Roosevelt St., Paducah, 11000539

Oldham County

Yew Dell Farm, 5800 N. Camden Ln., Crestwood, 11000540

MONTANA

Gallatin County

Lonesomehurst Cabin, Lonesomehurst Residential Residence Blk. A., Lot 1, West Yellowstone, 11000541

NEW YORK

Cortland County

Greenman, William J., House, 27 N. Church St., Cortland, 11000542

Otsego County

Tepee, The, 7632 US 20, Cherry Valley, 11000543

NORTH CAROLINA

Ashe County

Lansing Historic District, Roughly bounded by NC 194, G & A Sts., Lansing, 11000544

Beaufort County

Trinity Cemetery, NC 33, .07 mi. W. of jct. with NC 1157, Chocowinity, 11000545

VERMONT

Caledonia County

Darling Estate Historic District, Darling Hill Rd., Burke, 11000546

VIRGINIA

Accomack County

Hill, Captain Timothy, House, 5122 Main St., Chincoteague Island, 11000547

Arlington County

Highland Park-Overlee Knolls, (Historic Residential Suburbs in the United States, 1830-1960 MPS) Roughly bounded by 22nd St. N., N. Lexington St., 16th St. N., N. Longfellow St., McKinley Rd., I-66 & N. Quantico St., Arlington, 11000548

Richmond Independent city

Kent Road Village, (Federal Housing Administration-Insured Garden Apartments in Richmond, Virginia MPS) 920-924 N. Hamilton St. & 905-935 Kent Rd., Richmond (Independent City), 11000549

West Broad Street Industrial and Commercial Historic District, 1800-2100 blks. of Broad & Marshall Sts., bounded by Allison & Allen Sts., Richmond (Independent City), 11000550

Roanoke Independent city

Belmont Methodist-Episcopal Church, 806 Jamison Ave., Roanoke (Independent City), 11000551

Rockingham County

Haugh House, 6529 Port Republic Rd., Port Republic, 11000552

Shenandoah County

Mount Pleasant, 292 Hite Ln., Strasburg, 11000553

Toms Brook School, 3232 S. Main St., Toms Brook, 11000554

Waynesboro Independent city

Crompton-Shenandoah Plant, 200 W. 12th St., Waynesboro (Independent City), 11000555

WEST VIRGINIA

Hampshire County

Hickory Grove, Cty. rd. 8, 1 mi. S. of US 50, Romney, 11000556

Pendleton County

Pitsenbarger, Ananais, Farm, WV 23 approx. ¼ mi. S. of jct. with Cty. Rd. 23/1, Franklin, 11000557

Ritchie County

Harrisville Historic District, Roughly bounded by North, South, & Stout Sts. & Moats Ave., Harrisville, 11000558

WISCONSIN

Sauk County

Island Woolen Company Office Building, 900 2nd Ave., Baraboo, 11000559

[FR Doc. 2011-19572 Filed 8-2-11; 8:45 am]

BILLING CODE 4312-51-P